DEPARTMENT OF LABOR

Veterans' Employment and Training Service

Proposed Information Collection Request Submitted for Public Comment and Recommendations Eligibility Data Form: Uniformed Services Employment and Reemployment Rights Act and Veteran's Preference (USERRA/VP)

AGENCY: Veterans' Employment and Training Service (VETS), Labor.

ACTION: Notice.

SUMMARY: The Department of Labor, as part of its continuing effort to reduce paperwork and respondent burden, conducts a pre-clearance consultation program to provide the general public and Federal agencies with an opportunity to comment on proposed and/or continuing collections of information in accordance with The Paperwork Reduction Act of 1995 (PRA95) [44 U.S.C. 3506 C (2)(A)]. This program helps to ensure that requested data can be provided in the desired format, reporting burden (time and financial resources) is minimized, collection instruments are clearly understood, and the impact of collection requirements on respondents can be properly assessed.

Currently the Veterans' Employment and Training Service (VETS) is soliciting comments concerning the proposed information collection request for the VETS USERRA/VP Form 1010.

DATES: Comments are to be submitted by May 10, 2010.

ADDRESSES: Follow the instructions for submitting comments.

• E-mail: 1010-FRN-20010-VETS@dol.gov. Include “VETS-1010 Form” in the subject line of the message.

• Fax: (202) 693-4755 (for comments of 10 pages or less).

• Mail: Robert Wilson, Deputy Director, Division of Investigation and Compliance, VETS, U.S. Department of Labor, Room S-1316, 200 Constitution Avenue, NW., Washington, DC 20210.

• Receipt of submissions, whether by U.S. Mail, e-mail or FAX transmittal, will not be acknowledged; however, the sender may request confirmation that a submission has been received, by telephoning VETS at (202) 693-4719(VOICE) (this is not a toll-free number) or (202) 693-4753 (TTY/TDD).

All comments received, including any personal information provided, will be available for public inspection during normal business hours at the above address. People needing assistance to review comments will be provided with appropriate aids such as readers or print magnifiers.

FOR FURTHER INFORMATION CONTACT: Robert Wilson, Deputy Director, Division of Investigation and Compliance, VETS, at the U.S. Department of Labor, Room S-1316, 200 Constitution Avenue, NW., Washington, DC 20210, or by e-mail at: 1010-FRN-20010-VETS@dol.gov.

Addresses: Comments are to be submitted to the Veterans' Employment and Training Service, U.S. Department of Labor, ATTN: VETS-1010 Form, Room S-1316, 200 Constitution Ave., NW., Washington, DC 20210, telephone (202) 693-4719. Written comments limited to 10 pages or fewer may also be transmitted by facsimile to (202) 693-4755. Receipt of submissions, whether by U.S. mail, e-mail or FAX transmittal, will not be acknowledged; however, the sender may request confirmation that a submission has been received, by telephoning VETS at (202) 693-4719.

SUPPLEMENTARY INFORMATION:

I. Background

The VETS/USERRA/VP Form 1010 (VETS-1010 Form) is used to file complaints with the Department of Labor's Veterans' Employment and Training Service (VETS) under either the Uniformed Services Employment and Reemployment Rights Act (USERRA) or laws/regulations related to Veterans' Preference (VP) in Federal employment.

On October 13, 1994, the Uniformed Services Employment and Reemployment Rights Act (USERRA), Public Law 103-353, 108 Stat. 3150 was signed into law. Contained in Title 38, U.S.C., Sections 4301-4335, USERRA is the replacement for the Veterans' Reemployment Rights (VRR) law. The purpose of USERRA laws and regulations for this information collection requirement include: to protect and facilitate the prompt reemployment of members of the uniformed services (to include National Guard and Reserves); to minimize disruption to the lives of persons who perform service in the uniformed services and their employers; and to encourage individuals to participate in non-career uniformed service. Also, to prohibit discrimination in employment and acts of reprisal against persons because of their obligations in the uniformed services, prior service, intention to join the uniformed services, filing of a USERRA claim, seeking assistance concerning an alleged violation, testifying in a proceeding, or otherwise assisting in an investigation.

The Veterans Employment Opportunities Act (VEOA) of 1998, Public Law 105-339, 112 Stat. 3182, contained in Title 5 U.S.C. 3330a-3330(b), authorizes the Secretary of Labor to provide assistance to preference eligible individuals who believe their rights under the veterans preference laws have been violated. The regulations for this information collection requirement include: to provide preference for certain Veterans (preference eligibles) over others in Federal hiring from competitive lists of applicants; to allow access and open up Federal job opportunities to Veterans that might otherwise be closed to the public; to provide preference eligibles with preference over others in retention during reductions in force in Federal agencies.

Two new questions are included in the VETS-1010 Form, but have no significant impact on the burden hours needed to complete the form. The Veterans' Benefits Improvement Act of 2008 requires VETS to include in its USERRA Annual Report to Congress the number of cases that involve a person who has a service-connected disability and the number of cases that involve persons with different occupations or persons seeking different occupations, as designated by the Standard Occupational Classification System. To collect the required information, Section I: Claimant Information and Section III: Employer Information on the VETS-1010 Form were modified.

Section I: Claimant Information, question #7 asks: “Do you have a military service-connected disability?” The current question #7 becomes question #8 on the revised form.

Section III: Employer Information, question #18 asks for “Title of the Position or Occupation that is related to your claim (the job that you either now hold, or used to hold, or applied for, with this employer): ___”

Finally, a centralized mailing address is added to the VETS-1010 Form: Veterans' Employment and Training Service, U.S. Department of Labor, Attention: Form 1010, 61 Forsyth Street, SW., Room 6T85, Atlanta, Georgia 30303. VETS is implementing centralized receipt of claims to enable the agency to better track USERRA and VP claims, thus providing improved service to our Veteran claimants. VETS staff in Atlanta will record incoming forms and electronically direct the claim to the appropriate VETS' regional office and investigator.

II. Desired Focus of Comments

Currently VETS is soliciting comments concerning the proposed information collection request for the VETS-1010 Form. The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

This notice requests an extension of the current Office of Management and Budget approval of the paperwork requirements for VETS-1010 Form.

Type of Review: Extension.

Agency: Veterans' Employment and Training Service.

Title: VETS/USERRA/VP (VETS-1010 Form.)

OMB Number: 1293-0002.

Affected Public: Individuals or households.

Total Respondents: Approximately 2,500.

Average Time per Response: 30 minutes.

Total Burden Hours: 1,250 hours.

Total Annualized Capital/Startup costs: $0.

Total Initial Annual Costs: $0.

Comments submitted in response to this notice will be summarized and included in the request for the Office of Management and Budget approval of the information collection request. Comments will become a matter of public record.

Dated: March 4, 2010.
John M. McWilliam,
Deputy Assistant Secretary for Operations and Management, Veterans' Employment and Training Service Department of Labor.

[FR Doc. 2010-4968 Filed 3-8-10; 8:45 am]

BILLING CODE 4510-79-P